PRESIDIO TRUST

Notice of Public Meeting

AGENCY: The Presidio Trust.

ACTION: Notice of Public Meeting.

SUMMARY: In accordance with § 103(c)(6) of the Presidio Trust Act, 16 U.S.C. 460bb appendix, and in accordance with the Presidio Trust's bylaws, notice is hereby given that a public meeting of the Presidio Trust Board of Directors will be held commencing 6:30 p.m. on Monday, January 27, 2014, at Herbst Hall, 385 Moraga Street, Presidio of San Francisco, California. The Presidio Trust was created by Congress in 1996 to manage approximately eighty percent of the former U.S. Army base known as the Presidio, in San Francisco, California.

The purposes of this meeting are to take action on the minutes of a previous Board meeting, to provide the Chairperson's report, to provide the Executive Director's report, to present revised proposals for the Mid-Crissy Field Site Project, and to receive public comment on the Mid-Crissy Field Site Project and on other matters in accordance with the Trust's Public Outreach Policy.

Individuals requiring special accommodation at this meeting, such as needing a sign language interpreter, should contact Mollie Matull at 415.561.5300 prior to January 20, 2014.

Time: The meeting will begin at 6:30 p.m. on Monday, January 27, 2017.

ADDRESSES: The meeting will be held at Herbst Hall, 385 Moraga Street, Presidio of San Francisco.

FOR FURTHER INFORMATION CONTACT: Karen Cook, General Counsel, the Presidio Trust, 103 Montgomery Street, P.O. Box 29052, San Francisco, California 94129-0052, Telephone: 415.561.5300.

Dated: December 20, 2013.
Karen A. Cook,
General Counsel.

[FR Doc. 2013-31061 Filed 12-26-13; 8:45 am]

BILLING CODE 4310-4R-P